Title 3—

The President

Presidential Determination No. 2012-03 of December 2, 2011

Suspension of Limitations Under the Jerusalem Embassy Act

Memorandum for the Secretary of State

Pursuant to the authority vested in me as President by the Constitution and the laws of the United States, including section 7(a) of the Jerusalem Embassy Act of 1995 (Public Law 104-45) (the “Act”), I hereby determine that it is necessary, in order to protect the national security interests of the United States, to suspend for a period of 6 months the limitations set forth in sections 3(b) and 7(b) of the Act.

You are hereby authorized and directed to transmit this determination to the Congress, accompanied by a report in accordance with section 7(a) of the Act, and to publish the determination in the Federal Register.

This suspension shall take effect after the transmission of this determination and report to the Congress.

THE WHITE HOUSE,

Washington, December 2, 2011.

[FR Doc. 2011-33626

Filed 12-28-11; 11:15 am]

Billing code 4710-10-P